DEPARTMENT OF THE INTERIOR

Bureau of Land Management

[LLAKF03000.L12200000.DU0000]

Notice of Intent To Prepare an Amendment to the Kobuk-Seward Peninsula Resource Management Plan for the Squirrel River Special Recreation Management Area, Alaska

AGENCY: Bureau of Land Management, Interior.

ACTION: Notice of Intent.

SUMMARY: The Bureau of Land Management (BLM) Central Yukon Field Office intends to amend the Kobuk-Seward Peninsula Resource Management Plan (KSP/RMP) to address the Squirrel River Special Recreation Management Area (SRMA), located 30 miles northwest of Kotzebue, Alaska. The area was identified as an SRMA in the KSP/RMP. Some recreation decisions that will be addressed in the SRMA are land use plan-level decisions requiring a land use plan amendment. The amendment will include an associated environmental assessment (EA). This notice announces the beginning of the scoping period to solicit public comments and identify issues.

DATES: Scoping input may be submitted in writing until 30 days after the date of publication of this notice, or 15 days after the last public meeting, whichever is later. Public scoping meetings will be held in Kiana, Noorvik, Kotzebue, Fairbanks, and Anchorage. Meeting dates, times and locations will be announced through local news media outlets and on the BLM-Alaska Web site http://www.blm.gov/ak/ at least 15 days prior to the meeting. The BLM will provide additional opportunities for public comment after preparation of the proposed land use plan amendment and EA.

ADDRESSES: Submit comments by any of the following methods:

• E-mail: AK_CYFO_GeneralDelivery@blm.gov.

• Fax: (907) 474-2282.

• Mail: BLM Central Yukon Field Office, Attention—KSP/RMP Amendment, 1150 University Avenue, Fairbanks, Alaska 99709-3844.

Documents pertinent to this proposal may be examined at the BLM Fairbanks District Office, 1150 University Avenue, Fairbanks, Alaska, or on the Web site http://www.blm.gov/ak/st/en/prog/planning.html.

FOR FURTHER INFORMATION CONTACT: For information and/or to have your name added to the mailing list, please use the e-mail address: AK_CYFO_GeneralDelivery@blm.gov.

SUPPLEMENTARY INFORMATION: The BLM-administered Squirrel River SRMA is located in western Alaska, approximately 30 miles northwest of Kotzebue, Alaska. The Squirrel River SRMA encompasses approximately 683,000 acres of public land managed by the BLM. The Record of Decision for the KSP/RMP signed in September 2008 specified that an activity plan for the Squirrel River SRMA would be completed by September 2011. To complete the activity plan, the BLM will establish recreation management zones (RMZs) and identify the associated land use plan-level decisions. Since the KSP/RMP did not identify the RMZs and the associated RMZ decisions, an amendment to the RMP is necessary.

The EA will analyze the impacts of land use plan-level and implementation plan-level decisions proposed for the Squirrel River SRMA. These decisions will focus on determining proper use levels, visitor numbers, recreation administration, and travel management. This amendment and associated EA will meet the requirements of the National Environmental Policy Act of 1969 (NEPA), the Federal Land Policy and Management Act of 1976 (FLPMA), the Alaska National Interest Lands Conservation Act of 1980 (ANILCA), and the BLM policies. The BLM will work collaboratively with interested parties to identify the issues to be addressed by this planning effort.

The preliminary issues and opportunities to be addressed include:

• What are the effects of the recreation and travel management decisions on subsistence hunting, commercially-guided hunting, and general hunting?

• What are the effects of the recreation and travel management decisions on moose and caribou populations?

• What are the effects of the recreation and travel management decisions on access to inholdings?

• What are the effects of the recreation and travel management decisions on the local and regional economy?

The following preliminary criteria will help guide the amendment/EA process:

1. Opportunities for public participation will be encouraged throughout the RMP amendment process;

2. Valid existing rights will be recognized and protected;

3. Subsistence uses will be considered and adverse impacts minimized in accordance with Title VIII of ANILCA;

4. BLM will work cooperatively with State and Federal agencies, Native corporations, Tribes, municipal governments, interested groups, and individuals;

5. Decisions reached in this amendment will consider and adhere to Alaska Department of Fish and Game objectives to the extent that they are consistent with Title VIII of ANILCA;

6. This plan amendment will conform to the BLM Land Use Planning Handbook H-1601-1, as well as FLPMA, NEPA, ANILCA, and other applicable laws and policies;

7. The amendment will be consistent with the Alaska Statewide Land Health Standards;

8. Route designations for off-highway vehicles for public lands within the Squirrel River SRMA will be completed in accordance with the regulations at 43 CFR 8342;

9. Recreation and travel management decisions related to the Squirrel River SRMA will follow guidance in the BLM's Land Use Planning Handbook. All other decisions made in the KSP/RMP will remain in effect;

10. The plan will address only the BLM managed lands within the Squirrel River SRMA; and

11. The BLM will incorporate Environmental Justice (EJ) considerations into this amendment, to adequately respond to the EJ identified issues faced by minority populations, low income communities, and Tribes living near the planning area and using public land resources.

The purpose of the public scoping process is to identify relevant issues and planning criteria that will guide the planning process and influence the scope of the analysis and EA alternatives. You may submit comments on issues and planning criteria in writing to the BLM at public scoping meetings or by the methods listed in the ADDRESSES section above. Before including your address, phone number, e-mail address, or other personal identifying information in your comment, you should be aware that your entire comment—including your personal information—may be made publicly available at any time. While you can ask us in your comment to withhold your personal identifying information from public review, we cannot guarantee that we will be able to do so.

Julia Dougan,
Acting BLM-Alaska State Director.

[FR Doc. 2010-11457 Filed 5-12-10; 8:45 am]

BILLING CODE 4310-JA-P